DEPARTMENT OF JUSTICE

DEPARTMENT OF THE TREASURY

OFFICE OF MANAGEMENT AND BUDGET

Financial Privacy and Bankruptcy Study

AGENCIES: Department of Justice, Department of the Treasury, and Office of Management and Budget.

ACTION: Extension of deadline for public comments.

SUMMARY: On July 31, 2000, the Department of Justice, Department of Treasury, and Office of Management and Budget published a notice in the Federal Register announcing their intent to conduct a study (the “Study”) into how the filing of bankruptcy affects the privacy of individual consumer information that becomes part of a bankruptcy case. That notice may be found in the Federal Register at 65 Fed. Reg. 46735 (July 31, 2000) and on the Internet site of the Department of Justice's United states Trustee program at www.usdoj.gov/ust/privacy/privacy.htm. Public comments were initially requested by Friday, September 8, 2000. In response to requests for additional time for the submission of public views, the comment deadline is being extended two weeks, to Friday, September 22, 2000.

DATES: The revised deadline for the submission of public comments in response to the Study is September 22, 2000.

ADDRESSES: All submissions must be in writing or in electronic from. Written submissions should be sent to Leander Barnhill, Office of General Counsel, Executive Office for United States Trustees, 901 E Street, NW, Suite 780, Washington DC 20530. Electronic submissions should be sent by email to USTPrivacy.Study@usdoj.gov. The submissions should include the submitter's name, address, telephone number, and if available, FAX number and e-mail address. All submissions should be captioned “Comments on Study of Privacy Issues in Bankruptcy Data.”

Dated: August 31, 2000.
Kevyn D. Orr,
Director, Executive Office for United States Trustees, Department of Justice.

[FR Doc. 00-22888 Filed 9-6-00; 8:45 am]

BILLING CODE 4410-40M; 4810-25M; 3110-01-M